DEPARTMENT OF THE INTERIOR

Bureau of Land Management

[BLM_HQ_FRN_MO4500170159]

Notice of Intent To Amend Resource Management Plans for Section 368 Energy Corridor Revisions and Prepare an Associated Environmental Impact Statement

AGENCY: Bureau of Land Management, Interior.

ACTION: Notice of intent.

SUMMARY: In compliance with the National Environmental Policy Act of 1969, as amended (NEPA), and the Federal Land Policy and Management Act of 1976, as amended (FLPMA), the Bureau of Land Management (BLM) intends to prepare Resource Management Plan (RMP) amendments with an associated Environmental Impact Statement (EIS) for the Section 368 energy corridors, and by this notice is announcing the beginning of the scoping period to solicit public comments and identify issues and is providing the planning criteria for public review.

DATES: The BLM requests the public submit comments concerning the scope of the analysis, potential alternatives, and identification of relevant information by January 2, 2024. To afford the BLM the opportunity to consider issues raised by commenters on the Draft RMP Amendments/EIS, please ensure your comments are received prior to the close of the 30-day scoping period or 15 days after the last public meeting, whichever is later.

ADDRESSES: You may submit comments on issues and planning criteria related to Section 368 energy corridors by any of the following methods:

• Website: https://eplanning.blm.gov/eplanning-ui/project/2022227/510. This is the preferred method of commenting.

• Email: corridors@anl.gov.

• Mail: BLM, Attn: Section 368 Corridors—Crystal Hoyt, 280 Highway 191 North, Rock Springs, WY 82901-3447.

Documents pertinent to this proposal may be examined online at the project website provided above.

FOR FURTHER INFORMATION CONTACT: Crystal Hoyt, Project Lead, telephone 307-352-0322; address BLM, 280 Highway 191 North, Rock Springs, WY 82901-3447; email choyt@blm.gov. Contact Ms. Hoyt to have your name added to our mailing list. Individuals in the United States who are deaf, deafblind, hard of hearing, or have a speech disability may dial 711 (TTY, TDD, or TeleBraille) to access telecommunications relay services for contacting Ms. Hoyt. Individuals outside the United States should use the relay services offered within their country to make international calls to the point-of-contact in the United States.

SUPPLEMENTARY INFORMATION: This document provides notice that the BLM intends to prepare RMP amendments with an associated EIS for the specific Section 368 energy corridors identified in this notice, announces the beginning of the scoping process, announces the BLM's intent to hold four in-person public scoping meetings and two webinars, and seeks public input on issues and planning criteria. Section 368 energy corridors are managed as the preferred locations for development of energy transportation projects on lands managed by the BLM. Each corridor has a defined centerline, width, and compatible uses (underground-only, electric-only, or multi-modal). The RMP amendments are being considered to allow the BLM to evaluate modifying portions of seven existing designated Section 368 energy corridors, which would require amending the following 19 existing plans:

• Alturas Resource Management Plan, California

• Bishop Resource Management Plan, California

• Bradshaw-Harquahala Resource Management Plan, Arizona

• California Desert Conservation Area Plan, California

• Carson City Field Office Consolidated Resource Management Plan, Nevada

• Cedar Beaver Garfield Antimony Resource Management Plan, Utah

• Ely District Resource Management Plan, Nevada

• Lake Havasu Resource Management Plan, Arizona

• Las Vegas Resource Management Plan, Nevada

• Little Snake Resource Management Plan, Colorado

• Lower Sonoran Resource Management Plan, Arizona

• Mimbres Resource Management Plan, New Mexico

• Pinyon Management Framework Plan, Utah

• Rawlins Resource Management Plan, Wyoming

• Safford District Resource Management Plan, Arizona

• St. George Field Office Resource Management Plan, Utah

• Surprise Resource Management Plan, California

• Winnemucca District Resource Management Plan, Nevada

• Yuma Resource Management Plan, Arizona

The planning area is located in seven western states (Arizona, California, Colorado, Nevada, New Mexico, Utah, and Wyoming) and encompasses approximately 673 corridor miles on public land. This planning effort prioritizes consideration of amendments to only the corridors identified and described in this notice, which require interstate coordination and national-level planning to be implemented efficiently and effectively.

This land use planning process will not evaluate or designate areas of critical environmental concern (ACECs), and the BLM will not consider ACEC nominations as part of this process.

Background Information

Section 368 of the Energy Policy Act of 2005 (EPAct) (42 U.S.C. 15926) directed the Secretaries of Agriculture, Commerce, Defense, Energy, and the Interior to designate corridors for oil, gas, and hydrogen pipelines and electricity transmission and distribution facilities on Federal land in the 11 contiguous Western states (Section 368 energy corridors). In January 2009, the BLM signed a record of decision (2009 WWEC Programmatic EIS ROD) approving amendments to 92 BLM resource management plans to designate approximately 5,000 miles of Section 368 energy corridors on BLM-administered lands in Arizona, California, Colorado, Idaho, Montana, Nevada, New Mexico, Oregon, Utah, Washington, and Wyoming, consistent with the requirements of the EPAct. Several organizations challenged the BLM's decision in Federal court. As part of a settlement agreement to resolve the challenge, the BLM, together with the U.S. Forest Service and the U.S. Department of Energy (collectively Agencies), agreed to conduct reviews of the designated corridors, gather input from stakeholders, and identify recommendations for potential revisions, deletions, and additions to these corridors and to interagency operating procedures.

In April 2022, the Agencies issued a final report outlining the recommendations from the regional reviews for potential adjustments to the designated Section 368 energy corridors. The Energy Policy Act of 2005 Section 368 Energy Corridor Review Final Report: Regions 1-6 (“Final Report”) supported modifications to certain corridors on the basis that: portions of the corridors do not meet demand from new energy sources, including wind and solar; the presence of sensitive resources have inhibited Section 368 energy corridors from being used as intended; and physical pinch points present limitations on potential future development. Through this RMP amendment/EIS planning process, the BLM will evaluate modifications to seven designated Section 368 energy corridors through proposed amendments to 19 BLM RMPs in seven states (Arizona, California, Colorado, Nevada, New Mexico, Utah, and Wyoming). The proposed amendments could modify existing allocations, designations, objectives, and management direction.

Purpose and Need

The need for the action is to remove barriers or conflicts in the network of designated Section 368 energy corridors on BLM-administered lands that impair the efficient and effective use of the energy corridors. The BLM completed a regional review of all the designated Section 368 energy corridors in 2022 and identified the need for revisions to corridor designations to promote the siting, permitting, and review of energy right-of-way projects and to designate new corridors, as appropriate. Changes to the seven designated corridors and one proposed corridor addition identified in this planning effort would require interstate coordination and national-level planning to be implemented efficiently and effectively. Specifically, the BLM has found that portions of these corridors are not situated to meet changing demand from new energy sources, including wind and solar, and that changes to the presence of sensitive resources have inhibited the ability for designated Section 368 energy corridors to be used as intended. The BLM has further found that non-BLM managed lands as well as physical pinch points present limitations on potential future development. The regional review found that the changes to the corridors would provide effective connectivity for energy transmission across the western United States.

The purpose for the action is to identify Section 368 energy corridor designations that address the need identified above in a manner that fulfills the BLM's responsibilities under Section 368 of the EPAct, Section 503 of FLPMA (43 U.S.C. 1763), and the 2013 Presidential Memorandum “Transforming Our Nation's Electric Grid Through Improved Siting, Permitting, and Review,” in a manner that considers the following siting principles: corridors are thoughtfully sited to provide maximum utility and minimum impact to the environment; corridors promote efficient use of the landscape for necessary development; appropriate and acceptable uses are defined for specific corridors; and corridors provide connectivity to renewable energy generation to the maximum extent possible while also considering other sources of generation, in order to balance the renewable sources and to ensure the safety and reliability of electricity transmission. These modifications would consider amending existing allocations, designations, and management direction to ensure changes do not result in conflicting decisions for the current and future management within these corridors.

Preliminary Alternatives

The BLM will develop and analyze alternatives that include a range of potential changes to the seven designated Section 368 energy corridors identified in this notice and one potential corridor addition as summarized below.

• No Action Alternative: Under the No Action Alternative, the seven Section 368 energy corridors would remain as designated in the 2009 WWEC Programmatic EIS ROD (or as modified by a subsequent RMP amendment). The proposed Wamsutter-Powder Rim corridor addition would not be designated as a Section 368 energy corridor.

• Action Alternative A—Adopt the Recommendations in the Section 368 Energy Corridor Review Final Report: Under Action Alternative A, the BLM would adopt the changes recommended in the Final Report for each of the corridors listed below.

○ Corridor 16-104—Remove entire corridor designation.

○ Corridor 18-23—Shift entire corridor along existing 1000-kilovolt (kV) transmission line and narrow corridor width to 250-ft.

○ Corridor 27-41—Shift corridor east at Milepost (MP) 130 along existing 500-kV transmission line and extend corridor east to Laughlin, Nevada.

○ Corridor 30-52—Between MP 94 and MP 200, add a corridor braid along the Ten West Link 500 kV Project authorized right-of-way (ROW). Realign the corridor between MP 190 and MP 200 with the existing transmission line as the northern boundary of the corridor to avoid the Big Horn Mountain Wilderness Area and widen the corridor at MP 169 to maintain corridor width where a land conveyance to La Paz County was identified.

○ Corridor 81-213—Add a corridor braid to the north along the Southline Transmission Line Project authorized ROW and the SunZia Southwest Transmission Project authorized ROW. Revise the corridor along existing 500-kV transmission line from MP 0 to MP 18 to avoid overlap with the Afton SEZ.

○ Corridor 113-114—Add a corridor braid from MP 0 to MP 104 along the TransWest Express Transmission Line authorized ROW as well as an east-west connector at MP 30, connecting the designated corridor to the TransWest Express Transmission Project authorized ROW in eastern Nevada.

○ Corridor 138-143—Remove entire corridor designation.

○ Wamsutter-Powder Rim—Replace Corridor 138-143 with a new corridor along the TransWest Express Transmission Project authorized ROW. The northern end of the corridor would begin at the intersection with Corridor 73-138 (MP 15) in Wyoming and the southern end would terminate at the intersection with Corridor 126-133 (MP 45) in Colorado.

• Additional Action Alternatives—Additional action alternatives for individual corridors may be identified by cooperators, Federal agencies, Tribes, State and local agencies, and the public during the scoping process or by the BLM during its NEPA review. Any action alternatives would need to be responsive to the purpose and need.

The BLM welcomes comments on all preliminary alternatives as well as suggestions for additional alternatives.

Planning Criteria

The planning criteria guide the planning effort and lay the groundwork for effects analysis by identifying the preliminary issues and their analytical frameworks. Preliminary issues for the planning area have been identified by BLM personnel and through early engagement conducted for this planning effort with Federal, State, and local agencies, Tribes, and stakeholders. The planning criteria are available for public review and comment at the project ePlanning website (see ADDRESSES).

Summary of Expected Impacts

The BLM has identified the following potential effects to be examined during the planning process: effects to natural and cultural resources, other resource uses, and social and economic conditions from changes to Section 368 energy corridor designation for the corridors evaluated in this planning effort.

This planning effort will evaluate changes to energy corridor designations by taking into account management considerations for such corridor designations; the recommendations provided in the Final Report; siting principles, including those identified in the settlement agreement; and the management direction within the land use plans to be amended under the RMP amendments/EIS. The designation of a corridor does not authorize any ground-disturbing activities; however, the analysis in the EIS will consider the environmental effects from future energy infrastructure development within the energy corridors under each alternative.

Schedule for the Decision-Making Process

The BLM will provide additional opportunities for public participation consistent with the NEPA and land use planning processes, including a 90-day comment period on the Draft RMP Amendments/EIS and concurrent 30-day public protest period and 60-day Governors' consistency review on the Proposed RMP Amendments. The Draft RMP Amendments/EIS is anticipated to be available for public review in late 2024 or early 2025, and the Proposed RMP Amendments/Final EIS is anticipated to be available for public protest of the Proposed RMP Amendments in Summer 2025 with Approved RMP Amendments and a Record of Decision expected in Fall 2025.

Public Scoping Process

This notice of intent initiates the scoping period and public review of the planning criteria, which guide the development and analysis of the Draft RMP Amendments/EIS. The BLM will be holding two virtual public scoping meetings and four in-person meetings. The specific dates and locations of these scoping meetings will be announced at least 15 days in advance through local media, social media, newspapers, and the ePlanning website (see ADDRESSES).

Lead and Cooperating Agencies

The BLM is the lead agency for the NEPA analysis associated with this planning effort. The BLM has invited other Federal agencies, State and local government agencies, and Tribes to be cooperating agencies. Other stakeholders that may be interested in or affected by the revision are invited to participate in the scoping process and, if eligible, may request or be requested by the BLM to participate in the development of the EIS as a cooperating agency.

Responsible Official

The BLM Director is the deciding official for this planning effort.

Nature of Decision To Be Made

The BLM will decide whether to amend RMPs to address the purpose and need, consistent with the principles of multiple use and sustained yield.

Interdisciplinary Team

The BLM will use an interdisciplinary approach to develop the plan amendments in order to consider the variety of resource issues and concerns identified. Specialists with expertise in the following disciplines will be involved in this planning effort: rangeland management, minerals and geology, forestry, outdoor recreation, archaeology, paleontology, wildlife and fisheries, lands and realty, hydrology, soils, sociology, and economics.

Additional Information

The BLM will consider mitigation to appropriately address reasonably foreseeable impacts on resources from the proposed plan amendments and reasonable alternatives and future energy infrastructure development. Mitigation may include avoidance, minimization, rectification, reduction or elimination over time, and compensation, and may be considered at multiple scales, including the landscape scale.

The BLM will utilize and coordinate the NEPA and land use planning processes for this planning effort to help support compliance with applicable procedural requirements under the Endangered Species Act (16 U.S.C. 1536) and Section 106 of the National Historic Preservation Act (54 U.S.C. 306108) as provided in 36 CFR 800.2(d)(3), 800.3(b), and 800.8(a), including public involvement requirements of Section 106. Information about historic and cultural resources and threatened and endangered species within the area potentially affected by the proposed plan amendments will assist the BLM in identifying and evaluating impacts on such resources.

The BLM will consult with Indian Tribal Nations on a government-to-government basis in accordance with Executive Order 13175 and applicable Bureau and Departmental policies. Tribal concerns, including impacts on Indian trust assets and potential impacts on cultural resources, will be given due consideration. Federal, State, and local agencies, along with Indian Tribal Nations and other stakeholders that may be interested in or affected by the proposed changes to Section 368 energy corridors that the BLM is evaluating, are invited to participate in the scoping process and, if eligible, may request or be requested by the BLM to participate in the development of the environmental analysis as a cooperating agency. The BLM intends to hold a series of government-to-government consultation meetings. The BLM will send invitations to potentially affected Tribal Nations prior to the meetings. The BLM will provide additional opportunities for government-to-government consultation during the NEPA process.

Before including your address, phone number, email address, or other personal identifying information in your comment, you should be aware that your entire comment—including your personal identifying information—may be made publicly available at any time. While you can ask us in your comment to withhold your personal identifying information from public review, we cannot guarantee that we will be able to do so.

(Authority: 40 CFR 1501.9 and 43 CFR 1610.2)

Benjamin E. Gruber,
Acting Assistant Director, Energy, Minerals and Realty Management.

[FR Doc. 2023-26493 Filed 11-30-23; 8:45 am]

BILLING CODE 4331-29-P